DEPARTMENT OF JUSTICE

Office of Justice Programs

[OMB Number 1121-NEW]

Agency Information Collection Activities: Proposed Collection; Comments Requested

ACTION: 30-day notice of new information collection: Civil Justice Survey of State Courts Trials on Appeal.

The Department of Justice, Office of Justice Programs, Bureau of Justice Statistics, will be submitting the following information collection request to the Office of Management and Budget (OMB) for review and approval in accordance with the Paperwork Reduction Act of 1995. The proposed information collection is published to obtain comments from the public and affected agencies. The proposed information collection was previously published in the Federal Register Volume 74, Number 19, pages 5678-5679, on January 30, 2009, allowing for a 60-day public comment period.

The purpose of this notice is to allow an additional 30 days for public comment until May 7, 2009. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806.

Written comments and suggestions from the pubic and affected agencies concerning the proposed collection of information are encouraged. Your comments should address one or more of the following four points:

—Evaluate whether the proposed collection of information is necessary for the proper performance of the function of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of Information Collection: New information collection, Civil Justice Survey of State Courts Trials on Appeal.

(2) The Title of the Form/Collection: Civil Justice Survey of State Courts Trials on Appeal.

(3) The Agency Form Number, if Any, and the Applicable Component of the Department Sponsoring the Collection: The form labels are CJSSCTA—IAC, CJSSCTA—COLR, and CJSSCTA—ADR, Bureau of Justice Statistics, Office of Justice Programs, U.S. Department of Justice.

(4) Affected Public who Will be Asked or Required to Respond, as Well as a Brief Abstract: Primary: State Appellate Courts. The purpose of the CJSSCTA project is to provide detailed statistical information on civil cases adjudicated at the appellate level in State courts. The project will collect information from court records on individual civil cases disposed in a sample of State intermediate appellate courts and courts of last resort. The types of information collected will include the types of civil cases appealed after trial to an intermediate appellate court or court of last resort, the impact of the appellate process on trial court outcomes, the extent that appellate claims are dismissed or withdrawn before being decided on the merits, the types of legal issues raised on appeal, the number of appeals ending in a published opinion, and the rate of judicial dissent at the appellate level. The survey will also collect aggregate count information on the number of appeals referred to and settled through court annexed alternative dispute resolution programs.

(5) An Estimate of the Total Number of Respondents and the Amount of Time Estimated for an Average Respondent to Respond/Reply: It is estimated that information will be collected on 1,500 civil cases concluded by trial in 2005 in which either the plaintiff or defendant filed a notice of appeal to an intermediate appellate court or court of last resort. Information will also be collected on the number of cases filed and disposed in court annexed alternative dispute resolution programs. Annual cost to the respondents is based on the number of hours involved in providing information from court records for the intermediate appellate court, court of last resort, and alternative dispute resolution forms. Public reporting burden for this collection of information is estimated to average 1.5 hours per data collection form for the intermediate appellate court and court of last resort forms and 2 hours for the alternative dispute resolution forms. The estimate of hour burden is based on prior civil justice data collections and pre-tests of the current forms.

(6) An Estimate of the Total Public Burden (in Hours) Associated with the Collection: The estimated public burden associated with this collection is 830 hours. It is estimated that on-site data collection will be necessary for about 500 of the 1,500 civil appeals. Hence, the estimated burden hour to complete each of the appellate data collection forms will result in a total of 750 burden hours to complete the CJSSCTA (500 data collection forms multiplied by 1.5 hours per form = 750 burden hours). In addition to the case level appellate data collection forms, it is estimated that 40 appellate courts will have some form of court—annexed alternative dispute resolution (ADR) program. The estimated burden hour to complete the ADR spreadsheets for the participating appellate courts will result in a total of 80 burden hours to complete the ADR portion of this project: (40 appellate courts with ADR programs multiplied by 2 hours per coding spreadsheet = 80 burden hours). Therefore, the total burden hours for the CJSSCTA amounts to 830 burden hours (750 burden hours to complete the case level appellate forms + 80 hours to complete the ADR spreadsheets).

If additional information is required contact: Ms. Lynn Bryant, Department Clearance Officer, United States Department of Justice, Justice Management Division, Policy and Planning Staff, Patrick Henry Building, Suite 1600, 601 D Street, NW., Washington, DC 20530.

Dated: April 1, 2009.
Lynn Bryant,
Department Clearance Officer, PRA, United States Department of Justice.

[FR Doc. E9-7821 Filed 4-6-09; 8:45 am]

BILLING CODE 4410-18-P